FEDERAL ELECTION COMMISSION

[Notice 2019-16]

Filing Dates for the Maryland Special Election in the 7th Congressional District

AGENCY: Federal Election Commission.

ACTION: Notice of filing dates for special election.

SUMMARY: Maryland has scheduled special elections on February 4, 2020, and April 28, 2020, to fill the U.S. House of Representatives seat in the 7th Congressional District of the late Representative Elijah Cummings.

Committees required to file reports in connection with the Special Primary Election on February 4, 2020, shall file a 12-day Pre-Primary Report. Committees required to file reports in connection with both the Special Primary and Special General Election on April 28, 2020, shall file a 12-day Pre-Primary, a 12-day Pre-General, and a 30-day Post-General Report.

FOR FURTHER INFORMATION CONTACT: Ms. Elizabeth S. Kurland, Information Division, 1050 First Street NE, Washington, DC 20463; Telephone: (202) 694-1100; Toll Free (800) 424-9530.

SUPPLEMENTARY INFORMATION:

Principal Campaign Committees

All principal campaign committees of candidates who participate in the Maryland Special Primary and Special General Elections shall file a 12-day Pre-Primary Report on January 23, 2020; a 12-day Pre-General Report on April 16, 2020; and a 30-day Post-General Report on May 28, 2020. (See charts below for the closing date for each report.)

All principal campaign committees of candidates participating only in the Special Primary Election shall file a 12-day Pre-Primary Report on January 23, 2020. (See charts below for the closing date for each report.)

Unauthorized Committees (PACs and Party Committees)

Political committees not filing monthly in 2020 are subject to special election reporting if they make previously undisclosed contributions or expenditures in connection with the Maryland Special Primary or Special General Elections by the close of books for the applicable report(s). (See charts below for the closing date for each report.)

Since disclosing financial activity from two different calendar years on one report would conflict with the calendar year aggregation requirements stated in the Commission's disclosure rules, unauthorized committees that trigger the filing of the Pre-Primary Report will be required to file this report on two separate forms: One form to cover 2019 activity, labeled as the Year-End Report; and the other form to cover only 2020 activity, labeled as the Pre-Primary Report. Both forms must be filed by January 23, 2020.

Committees filing monthly that make contributions or expenditures in connection with the Maryland Special Primary or Special General Elections will continue to file according to the monthly reporting schedule.

Additional disclosure information in connection with the Maryland Special Elections may be found on the FEC website at https://www.fec.gov/help-candidates-and-committees/dates-and-deadlines/.

Disclosure of Lobbyist Bundling Activity

Principal campaign committees, party committees and leadership PACs that are otherwise required to file reports in connection with the special elections must simultaneously file FEC Form 3L if they receive two or more bundled contributions from lobbyists/registrants or lobbyist/registrant PACs that aggregate in excess of the lobbyist bundling disclosure threshold during the special election reporting periods. (See charts below for closing date of each period.) 11 CFR 104.22(a)(5)(v), (b), 110.17(e)(2), (f).

The lobbyist bundling disclosure threshold for calendar year 2019 is $18,700. This threshold amount may change in 2020 based upon the annual cost of living adjustment (COLA). As soon as the adjusted threshold amount is available, the Commission will publish it in the Federal Register and post it on its website. 11 CFR 104.22(g) and 110.17(e)(2). For more information on these requirements, see Federal Register Notice 2009-03, 74 FR 7285 (February 17, 2009).

Calendar of Reporting Dates for Maryland Special Election
Report | Close of books ¹ | Reg./cert. and overnight mailing deadline | Filing deadline
Committees Involved in Only the Special Primary (02/04/2020) Must File:
Year-End | —WAIVED—
Pre-Primary | 01/15/2020 | 01/20/2020 | 01/23/2020
April Quarterly | 03/31/2020 | 04/15/2020 | 04/15/2020
Committees Involved in Both the Special Primary (02/04/2020) and Special General (04/28/2020) Must File:
Year-End | —WAIVED—
Pre-Primary | 01/15/2020 | 01/20/2020 | 01/23/2020
April Quarterly | —WAIVED— |
Pre-General | 04/08/2020 | 04/13/2020 | 04/16/2020
Post-General | 05/18/2020 | 05/28/2020 | 05/28/2020
July Quarterly | 06/30/2020 | 07/15/2020 | 07/15/2020
Committees Involved in Only the Special General (04/28/2020) Must File:
April Quarterly | —WAIVED—
Pre-General | 04/08/2020 | 04/13/2020 | 04/16/2020
Post-General | 05/18/2020 | 05/28/2020 | 05/28/2020
July Quarterly | 06/30/2020 | 07/15/2020 | 07/15/2020
¹ The reporting period always begins the day after the closing date of the last report filed. If the committee is new and has not previously filed a report, the first report must cover all activity that occurred before the committee registered as a political committee up through the close of books for the first report due.

Dated: November 1, 2019.
On behalf of the Commission.
Ellen L. Weintraub,
Chair, Federal Election Commission.

[FR Doc. 2019-24258 Filed 11-6-19; 8:45 am]

BILLING CODE 6715-01-P